DEPARTMENT OF ENERGY

Federal Energy Regulatory Commission

Combined Notice of Filings # 1

Take notice that the Commission received the following exempt wholesale generator filings:

Docket Numbers: EG24-26-000.

Applicants: Babbitt Ranch Energy Center, LLC.

Description: Babbitt Ranch Energy Center, LLC submits Notice of Self-Certification of Exempt Wholesale Generator Status.

Filed Date: 11/1/23.

Accession Number: 20231101-5218.

Comment Date: 5 p.m. ET 11/22/23.

Take notice that the Commission received the following electric rate filings:

Docket Numbers: ER10-1852-082; ER10-1951-058; ER11-4462-081; ER17-838-055; ER18-807-012; ER20-2380-008; ER23-853-001; ER23-854-001; ER23-884-002.

Applicants: Sonoran Solar Energy, LLC, Storey Energy Center, LLC, Saint Energy Storage II, LLC, Saint Solar, LLC, Pinal Central Energy Center, LLC, NextEra Energy Marketing, LLC, NEPM II, LLC, NextEra Energy Services Massachusetts, LLC, Florida Power & Light Company.

Description: Notice of Change in Status of Florida Power & Light Company, et al.

Filed Date: 10/31/23.

Accession Number: 20231031-5374.

Comment Date: 5 p.m. ET 11/21/23.

Docket Numbers: ER22-281-001; ER22-286-001; ER22-288-001; ER22-289-001.

Applicants: Dry Bridge Solar 4, LLC, Dry Bridge Solar 3, LLC, Dry Bridge Solar 2, LLC, Dry Bridge Solar 1, LLC.

Description: Notice of Change in Status of Dry Bridge Solar 1, LLC, et al.

Filed Date: 10/31/23.

Accession Number: 20231031-5376.

Comment Date: 5 p.m. ET 11/21/23.

Docket Numbers: ER23-854-002.

Applicants: Storey Energy Center, LLC.

Description: Notice of Change in Status of Storey Energy Center, LLC.

Filed Date: 10/31/23.

Accession Number: 20231031-5375.

Comment Date: 5 p.m. ET 11/21/23.

Docket Numbers: ER24-312-000.

Applicants: Electrical District No. 3 of the County of Pinal, State of Arizona.

Description: Baseline eTariff Filing: Revised Formula Rate to the Transmission Service Agreement to be effective 11/1/2023.

Filed Date: 11/1/23.

Accession Number: 20231101-5207.

Comment Date: 5 p.m. ET 11/22/23.

Docket Numbers: ER24-313-000.

Applicants: Pennsylvania Electric Company, PJM Interconnection, L.L.C.

Description: § 205(d) Rate Filing: Pennsylvania Electric Company submits tariff filing per 35.13(a)(2)(iii: Penelec Amends SA Nos. 6483 and 6624, One ECSA and One CA to be effective 12/31/9998.

Filed Date: 11/1/23.

Accession Number: 20231101-5216.

Comment Date: 5 p.m. ET 11/22/23.

Docket Numbers: ER24-314-000.

Applicants: Duke Energy Progress, LLC, Duke Energy Carolinas, LLC.

Description: § 205(d) Rate Filing: Duke Energy Progress, LLC submits tariff filing per 35.13(a)(2)(iii: DEC-DEP Proposed Revisions—Attachment N-1 to be effective 1/1/2024.

Filed Date: 11/1/23.

Accession Number: 20231101-5219.

Comment Date: 5 p.m. ET 11/22/23.

Docket Numbers: ER24-315-000.

Applicants: FirstEnergy Pennsylvania Electric Company, Keystone Appalachian Transmission Company.

Description: § 205(d) Rate Filing: FirstEnergy Pennsylvania Electric Company submits tariff filing per 35.13(a)(2)(iii: 2023-11-01—Revisions to an Agreement to Which West Penn & Penelec are Parties to be effective 12/31/9998.

Filed Date: 11/1/23.

Accession Number: 20231101-5230.

Comment Date: 5 p.m. ET 11/22/23.

Docket Numbers: ER24-316-000.

Applicants: American Electric Power Service Corporation, PJM Interconnection, L.L.C.

Description: § 205(d) Rate Filing: American Electric Power Service Corporation submits tariff filing per 35.13(a)(2)(iii: AEP submits one Facilities Agreements re: ILDSA, SA No. 4234 to be effective 2/1/2024.

Filed Date: 11/2/23.

Accession Number: 20231102-5020.

Comment Date: 5 p.m. ET 11/24/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: November 2, 2023.
Debbie-Anne A. Reese,
Deputy Secretary.

[FR Doc. 2023-24743 Filed 11-8-23; 8:45 am]

BILLING CODE 6717-01-P